DEPARTMENT OF ENERGY

Federal Energy Regulatory Commission

[Docket No. CP03-31-000]

Paiute Pipeline Company; Notice of Intent To Prepare an Environmental Assessment for the Proposed Carson Lateral Replacement Project and Request for Comments on Environmental Issues

January 27, 2003.

The staff of the Federal Energy Regulatory Commission (FERC or Commission) will prepare an environmental assessment (EA) that will discuss the environmental impacts of Paiute Pipeline Company's (Paiute) proposed Carson Lateral Replacement Project in Lyon, Douglas, Carson City, and Washoe Counties, Nevada.¹ Paiute seeks to construct about 14 miles of 20-inch-diameter pipeline; abandon about 8 miles of existing 10-inch-diameter pipeline; and modify 4 existing regulation stations. The EA will be used by the Commission in its decision-making process to determine whether the project is in the public convenience and necessity.

¹ Paiute's application was filed on December 19, 2002, under section 7 of the Natural Gas Act and part 157 of the Commission's regulations.

If you are a landowner receiving this notice, you may be contacted by a Paiute representative about the acquisition of an easement to construct, operate, and maintain the proposed facilities. The pipeline company would seek to negotiate a mutually acceptable agreement. However, if the project is approved by the Commission, that approval conveys with it the right of eminent domain. Therefore, if easement negotiations fail to produce an agreement, Paiute could initiate condemnation proceedings in accordance with state law.

A fact sheet prepared by the FERC entitled “An Interstate Natural Gas Facility On My Land? What Do I Need To Know?” was attached to the project notice Paiute provided to landowners. This fact sheet addresses a number of typically asked questions, including the use of eminent domain and how to participate in the Commission's proceedings. It is available for viewing on the FERC Internet Web site (http://www.ferc.gov).

This Notice of Intent (NOI) is being sent to landowners along Pauite's proposed pipeline route; Federal, state, and local government agencies; national and local elected officials; regional environmental and public interest groups; Indian tribes that might attach religious and cultural significance to historic properties in the area of potential effects; local libraries and newspapers; and the Commission's list of parties to the proceeding. Government representatives are encouraged to notify their constituents of this proposed action and encourage them to comment on their areas of concern.

Additionally, with this NOI we ² are asking Federal, state, local, and tribal agencies with jurisdiction and/or special expertise with respect to environmental issues (especially those listed in appendix 3) to cooperate with us in the preparation of the EA. These agencies may choose to participate once they have evaluated Paiute's proposal relative to their agencies' responsibilities. Agencies which would like cooperating status should follow the instructions for filing comments described below.

² ”We,” “us,” and “our” refer to the environmental staff of the FERC's Office of Energy Projects.

Summary of the Proposed Project

Paiute wants to abandon and replace a deteriorating segment of pipeline, install a new loop ³ at another segment along its existing Carson Lateral; and increase capacity at 4 existing regulation stations. The proposed facilities would allow Paiute to expand its existing natural gas transmission system capacity by 5,868 dekatherms per day to meet the future demands of existing shippers. Paiute seeks to:

³ A loop is a segment of pipeline installed adjacent to an existing pipeline and connected to it at both ends. The loop allows more gas to be moved through the system.

• Construct and operate about 6.4 miles of new 20-inch-diameter loop between mileposts (MP) 9.45 and 15.85 on Paiute's existing Carson Lateral, parallel to U.S. Highway 95A north of Silver Springs, in Lyon County, Nevada (Highway 95A Loop);

• Abandon in place about 8.0 miles of 10-inch-diameter pipeline between MP 37.34 and MP 45.34 on the Carson Lateral in Lyon County, Nevada;

• Construct and operate about 8.1 miles of 20-inch-diameter pipeline, to replace the pipe abandoned in place, between MP 37.34 and MP 45.34 on the Carson Lateral, parallel to U.S. Highway 50 near Dayton, in Lyon County, Nevada (Highway 50 Replacement); and

• Replace and/or install pressure regulation facilities at the White Sage Pressure Limiting Station in Lyon County, Nevada; the Carson Pressure Limiting Station in Carson City County, Nevada; the CP National Corporation City Gate in Douglas County, Nevada; and the California Check Meter in Washoe County, Nevada.

The general location of the proposed facilities is shown in appendix 1.⁴

⁴ The appendices referenced in this notice are not being printed in the Federal Register. Copies are available on the Commission's Web site (http://www.ferc.gov) at the “FERRIS” link, or from the Commission's Public Reference and Files Maintenance Branch, 888 First Street, NE., Washington, DC 20426, or call (202) 502-8371. For instructions on connecting to FERRIS refer to the last page of this notice. Copies of the appendices were sent to all those receiving this notice in the mail.

Land Requirements for Construction

Construction of the facilities would affect a total of about 203 acres of land. Following construction, about 62 acres would be maintained as new easement for operation of the facilities. The remaining 141 acres would be restored and allowed to revert to its former use.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this NOI, the Commission requests public comments on the scope of the issues it will address in the EA. All comments received are considered during the preparation of the EA.

The EA will discuss impacts that could occur as a result of the construction and operation of the proposed project under these general headings:

• Geology and soils.

• Land use.

• Water resources, fisheries, and wetlands.

• Cultural resources.

• Vegetation and wildlife.

• Air quality and noise.

• Endangered and threatened species.

• Public safety.

We will also evaluate possible alternatives to the proposed project or portions of the project, and make recommendations on how to lessen or avoid impacts on the various resource areas. Our independent analysis of the issues will be in the EA. The U.S. Department of the Interior, Bureau of Land Management, Carson City Field Office (BLM) is participating as a cooperating agency in the preparation of the EA.

Depending on the comments received during the scoping process, the EA may be published and mailed to Federal, state, and local agencies, public interest groups, interested individuals, Native American Tribes, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Paiute. This preliminary list of issues may be changed based on your comments and our analysis.

• The proposed project would cross 4.02 miles of private land; 4.05 miles of state lands; 6.25 of federal (BLM-administered) lands; and 0.2 miles of county lands (Lyon County).

• The project is located in seismic risk zone 3, and the pipelines would cross 4 known faults.

• The Highway 50 Replacement would be within 0.25 mile of the Dayton State Park, and a proposed access road would cross through the northwest portion of the park.

• Nine residences and 15 industrial/commercial structures are within 50 feet of the construction right-of-way; 2 of these residences are within 15 feet.

• The Highway 50 Replacement would cross through the Gold Canyon area (MP 41.5 to 41.6), which has riparian vegetation and was identified as potential raptor nesting habitat.

• The Highway 50 Replacement would cross through the Carson River Mercury Site, which is a National Priorities List Superfund site.

• The Highway 50 Replacement would cross through a portion of the Comstock Historic District, which is listed on the National Register of Historic Places, and is associated with the Virginia City National Historic Landmark.

Public Participation

You can make a difference by providing us with your specific comments or concerns about the project. By becoming a commentor, your concerns will be addressed in the EA and considered by the Commission. You should focus on the potential environmental effects of the proposal, alternatives to the proposal (including alternative routes variations), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426;

• Label one copy of the comments for the attention of the Gas/Hydro Branch, PJ-11.3;

• Reference Docket No. CP03-31-000; and

• Mail your comments so that they will be received in Washington, DC on or before February 28, 2003.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Login to File” and then “New User Account.”

We might mail the EA for comments. If you are interested in receiving it, please return the Information Request form (appendix 4). If you do not return the Information Request form, you will be taken off the environmental mailing list.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). ⁵ Only intervenors have the right to seek rehearing of the Commission's decision.

Affected landowners and parties with environmental concerns may be granted intervenor status upon showing good cause by stating that they have a clear and direct interest in this proceeding which would not be adequately represented by any other parties. You do not need intervenor status to have your environmental comments considered.

⁵ Interventions may also be filed electronically via the Internet in lieu of paper. See the previous discussion on filing comments electronically.

Additional Information

Additional information about the project is available from the Commission's Office of External Affairs, at 1-866-208-FERC or on the FERC Internet Web site (http://www.ferc.gov) using the FERRIS link. Click on the FERRIS link, enter the docket number excluding the last three digits in the Docket Number field. Be sure you have selected an appropriate date range. For assistance with FERRIS, the FERRIS helpline can be reached at 1-866-208-3676, TTY (202) 502-8659, or e-mail FERCOnlineSupport@ferc.gov. The FERRIS link on the FERC Internet Web site also provides access to the texts of formal documents issued by the Commission, such as orders, notices, and rulemakings.

Magalie R. Salas,
Secretary.

[FR Doc. 03-2265 Filed 1-30-03; 8:45 am]

BILLING CODE 6717-01-P